DEPARTMENT OF HEALTH AND HUMAN SERVICES

Food and Drug Administration

21 CFR Part 131

[Docket No. 2000P-0685]

Milk and Cream Products and Yogurt Products; Petition to Revoke Standards for Lowfat Yogurt and Nonfat Yogurt and to Amend Standards for Yogurt and Cultured Milk; Reopening of the Comment Period

AGENCY: Food and Drug Administration, HHS.

ACTION: Advance notice of proposed rulemaking; reopening of the comment period.

SUMMARY: The Food and Drug Administration (FDA) is reopening for 90 days the comment period for an advance notice of proposed rulemaking (ANPRM) that announced the filing of a petition asking the agency to revoke the standards of identity for lowfat yogurt and nonfat yogurt; amend the standard of identity for yogurt in numerous respects, including incorporation of provisions for lowfat and nonfat yogurt; and amend the standard of identity for cultured milk in numerous respects, including allowing for the use of the alternate term “fermented milk.” This action is being taken in response to a request for more time to submit comments to FDA.

DATES: Submit written or electronic comments on the ANPRM by January 27, 2004.

ADDRESSES: Submit written comments to the Division of Dockets Management (HFA-305), Food and Drug Administration, 5630 Fishers Lane, rm. 1061, Rockville, MD 20852. Submit electronic comments to http://www.fda.gov/dockets/ecomments. The ANPRM and the petition are available for review at the Division of Dockets Management or electronically on FDA's Web site at http://www.fda.gov/ohrms/dockets/98fr/03-16789.pdf (ANPRM) and http://www.fda.gov/ohrms/dockets/98fr/00p-0685-cp00001.pdf (petition). You also may request a copy of these documents from the Division of Dockets Management.

FOR FURTHER INFORMATION CONTACT: Ritu Nalubola, Office of Nutritional Products, Labeling, and Dietary Supplements, Center for Food Safety and Applied Nutrition (HFS-820), Food and Drug Administration, 5100 Paint Branch Pkwy., College Park, MD 20740, 301-436-2371.

SUPPLEMENTARY INFORMATION:

I. Background

In the Federal Register of July 3, 2003 (68 FR 39873), FDA published an ANPRM announcing that a petition was filed on February 18, 2000, requesting that the agency revoke the standards of identity for lowfat yogurt and nonfat yogurt; amend the standard of identity for yogurt in numerous respects, including incorporation of provisions for lowfat and nonfat yogurt; and amend the standard of identity for cultured milk in numerous respects, including allowing for the use of the alternate term “fermented milk.” Interested persons were given until October 1, 2003, to comment on the ANPRM.

Following publication of the July 3, 2003, ANPRM, FDA received a request to allow interested persons additional time to comment. The requester asserted that the time period of 90 days was insufficient to respond fully to FDA's specific requests for comments and to allow potential respondents to thoroughly evaluate and address pertinent issues, including those that have emerged since the petition was filed in 2000.

FDA believes that it is sound public policy to reopen the comment period (21 CFR 10.40(b)(3)(i)), given the variety of scientific and other issues raised in the ANPRM.

II. Comments

Interested persons may submit to the Division of Dockets Management (see ADDRESSES) written or electronic comments regarding the ANPRM. Submit a single copy of electronic comments or two paper copies of any mailed comments, except that individuals may submit one paper copy. Comments are to be identified with the docket number found in brackets in the heading of this document. Comments previously submitted to the Division of Dockets Management do not need to be resubmitted because all comments submitted with that docket number will be considered in any future rulemaking. Received comments may be seen in the Division of Dockets Management between 9 a.m. and 4 p.m., Monday through Friday.

Dated: October 21, 2003.
Jeffrey Shuren,
Assistant Commissioner for Policy.

[FR Doc. 03-27188 Filed 10-28-03; 8:45 am]

BILLING CODE 4160-01-S